DEPARTMENT OF THE INTERIOR

Fish and Wildlife Service

Notice of Intent To Conduct Public Scoping and Prepare an Environmental Impact Statement Related to an Amendment of the 1997 Washington Department of Natural Resources Habitat Conservation Plan for Forested State Trust Lands

AGENCY: Fish and Wildlife Service, Interior.

ACTION: Notice; scoping meetings; request for comments.

SUMMARY: The U.S. Fish and Wildlife Service (Service) advises interested parties of our intent to conduct public scoping under the National Environmental Policy Act (NEPA) to gather information to prepare an Environmental Impact Statement (EIS), related to an anticipated application for a permit amendment from the Washington Department of Natural Resources (WDNR) for its 1997 Habitat Conservation Plan (HCP) for forested State trust lands. The HCP excludes those lands designated as urban or leased for commercial, industrial, or residential purposes and those lands designated as agricultural (HCP p. I.2). The application would be associated with the proposed replacement of the marbled murrelet (murrelet) interim conservation strategy (ICS), which is currently being implemented, with a proposed long-term conservation strategy (LTCS) for murrelets in Southwest Washington and the Olympic Peninsula.

DATES: Public scoping meetings are scheduled as follows:

1. September 26, 2006, 6:30-8:30 p.m., Forks, WA.

2. September 28, 2006, 6:30-8:30 p.m., Mount Vernon, WA.

3. October 4, 2006, 6:30-8:30 p.m.. South Bend, WA.

4. October 5, 2006, 6:30-8:30 p.m., Lacey, WA.

Written comments should be received on or before October 30, 2006.

ADDRESSES: The public scoping meetings will be at:

1. Olympic Natural Resources Center, 1455 South Forks Avenue, Forks, WA 98331.

2. Cotton Tree Inn, 2300 Market Street, Mount Vernon, WA 98273.

3. Willapa Harbor Community Center, 916 First Street, South Bend, WA 98586.

4. Lacey Community Center, 6729 Pacific Avenue SE., Lacey, WA 98509.

All comments concerning the preparation of the draft EIS, proposed draft HCP amendment, and NEPA process should be addressed to: Washington Department of Natural Resources, SEPA Center, Attn: Marbled Murrelet Long-term Conservation Strategy, c/o Mark Ostwald, U.S. Fish and Wildlife Service, P.O. Box 47015, Olympia, WA 98504-7015; facsimile: (360) 902-1789.

FOR FURTHER INFORMATION CONTACT: Mark Ostwald; telephone (360) 753-9564.

SUPPLEMENTARY INFORMATION:

Statutory Authority

Section 9 of the Endangered Species Act (ESA) (16 U.S.C. 1538) and implementing regulations prohibit the taking of animal species listed as endangered or threatened. The term “take” is defined under the ESA (16 U.S.C. 1532(19)) as to harass, harm, pursue, hunt, shoot, wound, kill, trap, capture, or collect, or to attempt to engage in any such conduct. “Harm” is defined by the Service to include significant habitat modification or degradation where it actually kills or injures wildlife by significantly impairing essential behavioral patterns, including breeding, feeding, and sheltering (50 CFR 17.3). “Harass” is defined as actions that create the likelihood of injury to listed species to such an extent as to significantly disrupt normal behavior patterns which include, but are not limited to, breeding, feeding, or sheltering (50 CFR 17.3).

Section 10 of the ESA and implementing regulations specify requirements for the issuance of incidental take permits (ITPs) to non-Federal landowners for the take of endangered and threatened species. Any proposed take must be incidental to otherwise lawful activities, not appreciably reduce the likelihood of the survival and recovery of the species in the wild, and minimize and mitigate the impacts of such take to the maximum extent practicable. In addition, the applicant must prepare a HCP describing the impact that will likely result from such taking, the strategy for minimizing and mitigating the take, the funding available to implement such steps, alternatives to such taking, and the reason such alternatives are not being implemented.

NEPA (42 U.S.C. 4321 et seq.) requires that Federal agencies conduct an environmental analysis of their proposed actions to determine if the actions may significantly affect the human environment. Under NEPA, a reasonable range of alternatives to proposed projects is developed and considered in the Service's environmental review. Alternatives considered for analysis in the EIS may include: Variations in the scope of covered activities; variations in the location, amount, and type of conservation; variations in permit duration; a combination of these elements; and no action. In addition, the EIS will identify potentially significant direct, indirect, and cumulative impacts on biological resources, land use, air quality, water quality, water resources, and socioeconomics, as well as other environmental issues that could occur with the implementation of the applicant's proposed actions and alternatives. For potentially significant impacts, the EIS may identify avoidance, minimization, or mitigation measures to reduce these impacts, where feasible, to a level below significance. The WDNR also anticipates submitting the LTCS for the murrelet through the State Environmental Policy Act review process.

Background

In 1996, the WDNR released its draft HCP (dated March 1996) for forest conservation and management activities over 1.6 million acres of forested State trust lands within the range of the northern spotted owl (Strix occidentalis caurina) in Washington State. A draft EIS (dated March 1996) jointly developed by the Service, National Marine Fisheries Service, and the WDNR was announced in the Federal Register (61 FR 15297, April 5, 1996). The draft EIS analyzed reasonable management alternatives, including the HCP. Through this process the WDNR requested incidental take coverage for the following listed species: Northern spotted owl, marbled murrelet (Brachyramphus mamoratus), Oregon silverspot butterfly (Speyeria zerene hippolyta), Aleutian Canada goose (Branta canadensis leucopareia), peregrine falcon (Falco peregrinus), grizzly bear (Ursos arctos), bald eagle (Haliaeetus leucocephalus), gray wolf (Canis lupus), and Columbian white-tailed deer (Odocoileus virginianus leucurus), and several unlisted species should they become listed under the ESA in the future. A Notice of Availability for the Final EIS (FEIS) was published in the Federal Register (61 FR 56563, November 1, 1996). On January 30, 1997, the Service issued the Incidental Take Permit (PRT 812521). A notice of decision and availability of decision documents was announced in the Federal Register on February 27, 1997 (62 FR 8970).

In the final HCP, the WDNR committed to developing a LTCS for the murrelet (HCP IV. 39). However, during development of the HCP it was determined that there was not enough scientific information to credibly develop a LTCS for the murrelet on WDNR lands. As such, the WDNR developed an ICS (HCP IV. 39). The principal intent of the ICS was to locate occupied sites and not foreclose future options for long-term conservation of the murrelet on WDNR lands. The WDNR has subsequently surveyed approximately 97,000 acres for murrelet occupancy that will help inform the LTCS.

Briefly, the ICS includes: (1) Identification and harvest deferral of any part of a block of suitable habitat for the murrelet; (2) completion of habitat relationship studies to determine the relative importance, based on murrelet occupancy, of the various habitats; (3) following completion of the habitat relationship studies, the lowest quality habitats would be available for timber harvest, which were expected to contain 5 percent of the occupied sites (these sites were in the poorest quality habitats); (4) the higher quality habitat acreages identified from the habitat relationships study would be surveyed for murrelet occupancy. Certain unoccupied habitats would then become available for timber harvest, and occupied habitat and certain unoccupied habitat would be protected; and (5) development of the LTCS for murrelets on WDNR lands, which is the subject of this action.

For southwest Washington and the Olympic Peninsula, the WDNR has completed steps 1 through 4 above and anticipates submitting a proposed LTCS for these areas. For the remainder of the State within the potential range of the murrelet (i.e., central and north Cascades), the WDNR continues to conduct murrelet surveys and anticipates completion of these surveys within several years. Once surveys are completed, the WDNR will develop detailed LTCSs for those areas. Many of the conservation approaches used in the southwest Washington and the Olympic Peninsula strategy may be relevant for the central and north Cascades. However, the present scoping process will focus on the LTCS for Southwest Washington and the Olympic Peninsula.

Currently, the WDNR has an existing ITP for specific levels and types of incidental take of murrelets. The current ITP was principally structured to meet the needs of the ICS, which the WDNR now desires to replace with the LTCS. It is expected that the LTCS may necessitate a revised ITP because of new areas for murrelet conservation and potentially new levels of incidental take not previously authorized.

To obtain the amended ITP, WDNR must develop a LTCS that meets the ITP issuance criteria established by the ESA and Service regulations (50 CFR 17.22(b)(2), 17.22(b)(2)). If the permit were to be amended, it would replace the ICS. We anticipate that all other terms and conditions of the 1997 permit would remain in full force and effect should the amendment be authorized.

The proposed LTCS may have levels and areas of incidental take of murrelets that were not previously analyzed by the Service. Accordingly, the level of take, general locations where incidental take is likely to occur, the timing of incidental take, minimization and mitigation strategies, enhancement activities, and research and monitoring plans will be described in the LTCS and the EIS.

In order to evaluate a permit amendment, the WDNR must submit the proposed LTCS to the Service for analysis. The Service will ultimately determine whether the LTCS satisfies the ESA section 10 permit issuance criteria and other applicable laws and/or regulations. The LTCS must also be consistent with the WDNR HCP. Should the permit be amended to authorize the LTCS, it may include assurances under the Service's “No Surprises” regulations.

Request for Comments

The primary purpose of the scoping process is for the public to assist the Service in developing the EIS by identifying important issues and alternatives related to the applicant's proposed action. The scoping workshops will allocate time for presentations by the Service and the applicant, followed by informal questions and discussions.

Written comments from interested parties are encouraged to ensure that the full range of issues related to the anticipated permit amendment is identified. All comments and materials received, including names and addresses, will become part of the administrative record and may be released to the public. Comments and materials received will be available for public inspection, by appointment, during normal business hours at the office listed in the ADDRESSES section of this notice.

The Service requests that comments be specific. In particular, we request information regarding: Direct, indirect, and cumulative impacts that implementation of the proposed amendment or other alternatives could have on murrelets and other endangered and threatened species, and their habitats; other possible alternatives that meet the purpose and need; information on murrelet ecology in Southwest Washington and the Olympic Peninsula; potential adaptive management and/or monitoring provisions; funding issues; existing environmental conditions in the plan area; other plans or projects that might be relevant to this proposed project; minimization and mitigation efforts; and baseline environmental conditions. WDNR is also requesting comments on murrelet ecology in the central and north cascades for their consideration, which will assist in developing the LTCS in those areas.

The environmental review of this project will be conducted in accordance with the requirements of the NEPA of 1969, as amended (42 U.S.C. 4321 et seq.), Council on Environmental Quality Regulations (40 CFR 1500-1508), other applicable Federal laws and regulations, and policies and procedures of the Service. This notice is being furnished in accordance with 40 CFR 1501.7 of NEPA to obtain suggestions and information from other agencies and the public on the scope of issues and alternatives to be addressed in the EIS. The Service and WDNR intend to jointly develop a single document that will comply with all requirements of the ESA, the State Environmental Policy Act and NEPA.

Reasonable Accommodation

Persons needing reasonable accommodations in order to attend and participate in public meetings should contact Mark Ostwald (see the FOR FURTHER INFORMATION CONTACT section of this notice). In order to allow sufficient time to process requests, please call no later than one week before the public meeting. Information regarding this proposed action is available in alternative formats upon request.

Dated: September 8, 2006.
David J. Wesley,
Deputy Regional Director, Fish and Wildlife Service, Region 1, Portland, Oregon.

[FR Doc. E6-15238 Filed 9-14-06; 8:45 am]

BILLING CODE 4310-55-P